ENVIRONMENTAL PROTECTION AGENCY

[FRL-7667-2]

EPA Region III Comprehensive Environmental Response, Compensation and Liability Act Program; Transfer of Information to Contractors and Subcontractors

AGENCY: Environmental Protection Agency (EPA).

ACTION: Notice.

SUMMARY: EPA Region III intends to authorize certain contractors and subcontractors access to information submitted to EPA under the Comprehensive Environmental Response, Compensation, and Liability Act (“CERCLA”). Some of this information may be claimed or determined to be confidential business information (CBI).

DATES: Contractor access to this information will occur June 24, 2004. Comments concerning CBI access will be accepted for thirty days from May 25, 2004.

FOR FURTHER INFORMATION CONTACT: Ben Mykijewycz (3HS42), Chief Contracts, ADP and State Support Section, EPA Region III (215) 814-3351.

SUPPLEMENTARY INFORMATION: The contractor and subcontractors listed below will provide certain services to EPA Region III, including; (1) information management support services for the operation of a file room and an administrative records room in Philadelphia, Pennsylvania; (2) compilation and organization of documents and information; and (3) review and analysis of documents and information. In performing these tasks, employees of the contractors and subcontractors listed below will have access to Agency documents for purposes of document processing, filing, abstracting, analyzing, inventorying, retrieving, tracking, etc. The documents to which these contractors and subcontractors will have access potentially include all document submitted under the CERCLA. Some of these documents may contain information claimed as CBI.

Pursuant to EPA regulations at 40 CFR part 2, subpart B, EPA has determined that these contractors and subcontractors require access to CBI to perform the work required under the contracts and subcontracts. These regulations provide for five days notice before contractors are given CBI. This notice is intended to provide notice of all disclosures of such information by EPA Region III to the contractors and subcontractors listed below.

All of the listed contractors and subcontractors are required by contract to protect confidential information. When the contractors' and subcontractors' need for the documents is completed, the contractors and subcontractors will return them to EPA. The contractors and subcontractors to which this notice applies are as follows:

List of Contractors That May Review Your Response

Chenega Technical Products

• Contract # EP-S3-04-01

• Tetra Tech EM, Inc.—

• Contract #68S3-0002

Subcontractor to Tetra Tech EM, Inc. is:

Eagle Instruments, Inc.

• Ecology and Environment, Inc.—

• Contract #68-S3-001

Subcontractor to Ecology and Environment, Inc. is:

S & S Engineers, Inc.

• IT Corporation—

• Contract #68-S3-00-06

Subcontracts to IT Corporation are:

Weavertown Environmental Group

Environmental Restoration Company

• Earth Tech, Inc.—

• Contract #68-S3-00-07

Subcontractors to Earth Tech, Inc. are:

Industrial Marine Services, Inc.

Cline Oil

Hertz Equipment Rental

• Tetra Tech NUS Inc.—

Contract #68-S6-3003

Subcontractors to Tetra Tech NUS Inc. are:

Gannett Fleming, Inc.

Dynamic Corporation

C.C. Johnson & Malhotra, P.C.

• CDM—Federal Programs Corporation—

Contract #68-S7-3003

Subcontractors to CDM—Federal Programs Corporation are:

Tetra Tech EM, Inc.

Robert Kimball & Associates

PMA & Associates

Horne Engineering

Pacific Environmental Services

• Black and Veatch Waste Science and Technology Corporation/Tetra Tech, Inc.—

Contract #68-S7-3002

Subcontractor:

Enviro Consultants Group

• Tech Law, Inc.—

Contract #68-W-00-108

• WRS Infrastructure & Environment, Inc.—

Contract #68-S3-03-02

• Kemron Environmental Services—

Contract #68-S3-03-05

• ASRC Aerospace Corp.—

Contract #68-W-01-02

• Industrial Marine Services, Inc.

Contract #68-S3-03-03

• Guardian Environmental Services, Inc.

68-S3-03-04

List of Inter-Agency Agreements

• General Services Administration

CERCLA File Room

Contractor: Booz-Allen & Hamilton

• General Services Administration

Spectron Superfund Site

Contractor: Booz-Allen & Hamilton

• General Services Administration

Breslube Penn Superfund Site

Contractor: Booz-Allen & Hamilton

List of Cooperative Agreements

• National Association of Hispanic Elderly (Senior Environmental Employment)-#CQ-822511

• AARP Foundation (Senior Environmental Employment)—#823952

Dated: May 14, 2004.
Peter W. Schaul,
Acting Division Director, Hazardous Site Cleanup Division.

[FR Doc. 04-11774 Filed 5-24-04; 8:45 am]

BILLING CODE 6560-50-M